DEPARTMENT OF THE TREASURY

United States Mint

Proposed Collection; Comment Request

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the United States Mint within the Department of the Treasury is soliciting comments concerning the United States Mint Generic Clearance Package for OMB.

Written comments should be received on or before March 18, 2002, to be assured of consideration. Direct all written comments to Philip Neisser, Acting Director, Office of Business Alignment, United States Mint, 801 9th Street, NW., Washington, DC 20220; 202.772.7323; Pneisser@usmint.treas.gov.

Requests for additional information or copies of the form(s) and instructions should be directed to Melissa Ferring, Communications Specialist, Office of Business Alignment, United States Mint, 801 9th Street, NW., Washington, DC 20220; 202.772.7320; Mferring@usmint.treas.gov.

SUPPLEMENTARY INFORMATION: Title: United States Mint Generic Clearance Package.

OMB Number: 1525-0012.

Abstract: This is a request for a reinstatement of a three year Generic Clearance to conduct customer satisfaction surveys for the United States Mint.

Current Actions: The United States Mint conducts customer service surveys and focus groups to determine the level of satisfaction from the Mint customers. These actions allow the Mint access to the needs and desires of customers for future products and more efficient, economical services. The United States Mint currently has a Generic Clearance with OMB which allows expedition of the customer satisfaction surveys and focus groups. The United States Mint is requesting another three year reinstatement of this Generic Clearance.

Type of Review: This is a Reinstatement submission, with the only changes being that the necessary survey requests are far fewer than in the past three years.

Affected Public: The affected public includes the serious and casual numismatic collectors, dealers and people in the numismatic business and the general public or one time only customers.

Estimated Number of Respondents: The estimated number of respondents for the next three years is 10,390. With a total estimated number of burden hours of 4,659.

Estimated Total Annual Burden Hours: The estimated number of annual burden hours is 1,553.

Request for Comments

Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: January 4, 2002.
Philip Neisser,
Acting Director, Office of Business Alignment, United States Mint.

[FR Doc. 02-1072 Filed 1-15-02; 8:45 am]

BILLING CODE 4810-37-M